FEDERAL DEPOSIT INSURANCE CORPORATION

12 CFR Ch. III

Semiannual Agenda of Regulations

AGENCY: Federal Deposit Insurance Corporation.

ACTION: Semiannual regulatory agenda.

SUMMARY: The Federal Deposit Insurance Corporation (FDIC) is hereby publishing items for the Spring 2014 Unified Agenda of Federal Regulatory and Deregulatory Actions. The agenda contains information about FDIC's current and projected rulemakings, existing regulations under review, and completed rulemakings.

FOR FURTHER INFORMATION CONTACT: Robert E. Feldman, Executive Secretary, Federal Deposit Insurance Corporation, 550 17th Street NW., Washington, DC 20429.

SUPPLEMENTARY INFORMATION: Twice each year, the FDIC publishes an agenda of regulations to inform the public of its regulatory actions and to enhance public participation in the rulemaking process. Publication of the agenda is in accordance with the Regulatory Flexibility Act (5 U.S.C. 601 et seq.). The FDIC amends its regulations under the general rulemaking authority prescribed in section 9 of the Federal Deposit Insurance Act (12 U.S.C. 1819) and under specific authority granted by the Act and other statutes.

Proposed Rule Stage

Margin and Capital Requirements for Covered Swap Entities (3064-AD79)

The Office of the Comptroller of the Currency, the Board of Governors of the Federal Reserve System, the Federal Deposit Insurance Corporation, the Farm Credit Administration and the Federal Housing Finance Agency (collectively the Agencies) reopened the comment period on the proposed rule published in the Federal Register on May 11, 2011, (76 FR 27564), to establish minimum margin and capital requirements for uncleared swaps and security-based swaps entered into by swap dealers, major swap participants, security based swap dealers, and major security-based swap participants for which one of the Agencies is the prudential regulator (Proposed Margin Rule). Reopening the comment period allowed interested persons additional time to analyze and comment on the Proposed Margin Rule in light of the consultative document on margin requirements for non-centrally-cleared derivatives recently published for comment by the Basel Committee on Banking Supervision and the International Organization of Securities Commissions.

*Removal of Transferred OTS Regulations Regarding Securities of State Savings Associations and Amendments to 12 CFR Part 335 of the FDIC's Rules and Regulations (3064-AE07)

In this notice of proposed rulemaking, the Federal Deposit Insurance Corporation (FDIC) proposes to rescind and remove from the Code of Federal Regulations 12 CFR part 390 subpart U, entitled Securities of State Savings Associations, and revise 12 CFR part 335 to extend its applicability to state savings associations. This subpart was included in the regulations that were transferred to the FDIC from the Office of Thrift Supervision on July 21, 2011, in connection with the implementation of applicable provisions of title III of the Dodd-Frank Wall Street Reform and Consumer Protection Act. Upon removal of 12 CFR part 390 subpart U and all related references from the FDIC rules and regulations, all state nonmember banks and state savings associations having securities registered pursuant to the Securities Exchange Act of 1934 (Exchange Act), and for which the FDIC has been designated the appropriate federal banking agency, will be subject to the disclosure and filing requirements found at 12 CFR part 335, currently entitled Securities of Nonmember Insured Banks. The proposed rule would retitle part 335 as Securities of Insured State Nonmember Banks and State Savings Associations and revise part 335 by inserting the term “state savings association” where appropriate so that the FDIC rules governing the disclosure and filing requirements of securities registered pursuant to the Exchange Act will apply to both insured state nonmember banks and state savings associations.

*Removal of Transferred OTS Regulations Regarding Rules of Practice and Procedure and Amendments to 12 CFR Part 308 of FDIC Rules and Regulations (3064-AE08)

The Federal Deposit Insurance Corporation (FDIC) proposes to rescind and remove 12 CFR part 390, subparts B, C, D, and E of the former Office of Thrift Supervision (OTS) rules as redundant of existing uniform rules of practice and procedure applicable to administrative hearings. These subparts were included in the regulations that were transferred to the FDIC from the OTS on July 21, 2011, in connection with the implementation of applicable provisions of title III of the Dodd-Frank Wall Street Reform and Consumer Protection Act. With few exceptions addressed below, the requirements for State savings associations in part 390, subparts B through E are substantively similar to those in FDIC's 12 CFR part 308, subparts A, B, C, K, and N. The FDIC further proposes to amend 12 CFR part 308, subparts A, B, C, K, and N, to modify the scope of the rules to include State savings associations and to conform to and reflect the scope of the FDIC's current supervisory responsibilities as the appropriate Federal banking agency for those institutions. Additionally, the FDIC proposes to modify these regulations in minor ways that will ensure that all insured depository institutions for which the FDIC is the appropriate Federal Banking Agency (FBA), are subject to the same substantive and procedural rules governing administrative hearings.

*Minimum Requirements for Appraisal Management Companies (3064-AE10)

The Office of the Comptroller of the Currency, the Federal Reserve Board, the Federal Deposit Insurance Corporation, the National Credit Union Association, and the Federal Housing Finance Agency (collectively, the Agencies) are jointly proposing a rule to implement the minimum requirements in section 1473 of the Dodd-Frank Wall Street Reform and Consumer Protection Act to be applied by States in the registration and supervision of appraisal management companies (AMCs). The proposed rule also implements the requirement in section 1473 of the Dodd-Frank Act for States to report to the Appraisal Subcommittee of the Federal Financial Institutions Examination Council the information required by the Appraisal Subcommittee to administer the new national registry of appraisal management companies. In conjunction with this implementation of section 1473, the FDIC is proposing to integrate its appraisal regulations for State nonmember banks and State savings associations.

Final Rule Stage

Credit Risk Retention (3064-AD74)

The Office of the Comptroller of the Currency, the Board of Governors of the Federal Reserve System, the Federal Deposit Insurance Corporation, the Securities Exchange Commission, the Federal Housing Finance Agency, and the U.S. Department of Housing and Urban Development (the Agencies) are seeking comment on a joint proposed rule (the proposed rule, or the proposal) to revise the proposed rule the agencies published in the Federal Register on April 29, 2011, and to implement the credit risk retention requirements of section 15G of the Securities Exchange Act of 1934 (15 U.S.C. 78o-11), as added by section 941 of the Dodd-Frank Wall Street Reform and Consumer Protection Act (Dodd-Frank Act). Section 15G generally requires the securitizer of asset-backed securities to retain not less than 5 percent of the credit risk of the assets collateralizing the asset backed securities. Section 15G includes a variety of exemptions from these requirements, including an exemption for asset-backed securities that are collateralized exclusively by residential mortgages that qualify as “qualified residential mortgages,” as such term is defined by the Agencies by rule.

Incentive-Based Compensation Arrangements (3064-AD86)

The Office of the Comptroller of the Currency, the Board of Governors of the Federal Reserve System, the Federal Deposit Insurance Corporation, the National Credit Union Administration, the U.S. Securities Exchange Commission, and the Fair Housing Finance Agency proposed a rule to implement section 956 of the Dodd-Frank Wall Street Reform and Consumer Protection Act. The rule would require the reporting of incentive-based compensation arrangements by a covered financial institution and prohibit incentive-based compensation arrangements at a covered financial institution that provides excessive compensation or that could expose the institution to inappropriate risks that could lead to material financial loss.

Regulatory Capital Rules: Regulatory Capital, Implementation of Basel III Capital Adequacy, Transition Provisions, PCA, Standardize Approach for Risk-Weighted Assets (3064-AD95)

The Federal Deposit Insurance Corporation (FDIC) is adopting an interim final rule that revises its risk-based and leverage capital requirements for FDIC-supervised institutions. This interim final rule is substantially identical to a joint final rule issued by the Office of the Comptroller of the Currency (OCC) and the Board of Governors of the Federal Reserve System (Federal Reserve) (together, with the FDIC, the Agencies). The interim final rule consolidates three separate notices of proposed rulemaking that the agencies jointly published in the Federal Register on August 30, 2012, with selected changes. The interim final rule implements a revised definition of regulatory capital, a new common equity tier 1 minimum capital requirement, higher minimum tier 1 capital requirement, and, for FDIC-supervised institutions subject to the advanced approaches risk-based capital rules, a supplementary leverage ratio that incorporates a broader set of exposures in the denominator. The interim final rule incorporates these new requirements into the FDIC's prompt corrective action framework. In addition, the interim final rule establishes limits on FDIC-supervised institutions' capital distributions and certain discretionary bonus payments if the FDIC-supervised institution does not hold a specified amount of common equity tier 1 capital in addition to the amount necessary to meet its minimum risk-based capital requirements. The interim final rule amends the methodologies for determining risk-weighted assets for all FDIC-supervised institutions. The interim final rule also adopts changes to the FDIC's regulatory capital requirements that meet the requirements of section 171 and section 939A of the Dodd-Frank Wall Street Reform and Consumer Protection Act. The interim final rule also codifies the FDIC's regulatory capital rules, which have previously resided in various appendices to their respective regulations, into a harmonized integrated regulatory framework.

Removal of Transferred OTS Regulations Regarding Post-Employment Activities of Senior Examiners (3064-AD98)

The Federal Deposit Insurance Corporation (FDIC) proposes to rescind and remove from the Code of Federal Regulations 12 CFR part 390, subpart A, entitled Restrictions on Post-Employment Activities of Senior Examiners. This subpart was included in the regulations that were transferred to the FDIC from the Office of Thrift Supervision on July 21, 2011, in connection with the implementation of applicable provisions of title III of the Dodd-Frank Wall Street Reform and Consumer Protection Act (Dodd-Frank Act). Upon removal of 12 CFR part 390, subpart A, the restrictions for post-employment activities of senior examiners of all insured depository institutions for which the FDIC has been designated the appropriate Federal banking agency will be found at 12 CFR part 336, subpart C, entitled One-Year Restriction on Post-Employment Activities of Senior Examiners. The proposed rule would not change 12 CFR part 336, subpart C. This proposed rule also proposes to revise 12 CFR part 336, subpart B by deleting a reference to the “Office of Thrift Supervision” in the definition of “Federal banking agency” described in part 336.3(e) and adding the words “predecessors or” in front of the word “successors”.

Regulatory Capital Rules: Regulatory Capital, Enhanced Supplementary Leverage Ratio Standards for Certain Bank Holding Companies and Their Subsidiary Insured Depository Institutions (3064-AE01)

The Office of the Comptroller of the Currency, the Board of Governors of the Federal Reserve System (Board), and the Federal Deposit Insurance Corporation (collectively the Agencies) sought comment on a notice of proposed rulemaking that would strengthen the agencies' leverage ratio standards for large, interconnected U.S. banking organizations. The proposal would apply to any U.S. top-tier bank holding company (BHC) with at least $700 billion in total consolidated assets or at least $10 trillion in assets under custody (covered BHC) and any insured depository institution subsidiary of these BHCs. In the revised capital regulations adopted by the Agencies, the Agencies established a minimum supplementary leverage ratio of 3 percent (supplementary leverage ratio), consistent with the minimum leverage ratio adopted by the Basel Committee on Banking Supervision, for banking organizations subject to the advanced approaches risk-based capital rules. In this proposal, the agencies are proposing to establish a “well capitalized” threshold of 6 percent for the supplementary leverage ratio for any insured depository institution that is a subsidiary of a covered BHC, under the Agencies' prompt corrective action framework. The Board also proposes to establish a new leverage buffer for covered BHCs above the minimum supplementary leverage ratio requirement of 3 percent (leverage buffer).

The leverage buffer would function like the capital conservation buffer for the risk-based capital ratios in the 2013 rule. A covered BHC that maintains a leverage buffer of tier 1 capital in an amount greater than 2 percent of its total leverage exposure would not be subject to limitations on distributions and discretionary bonus payments. The proposal would take effect beginning on January 1, 2018.

Loans in Areas Having Special Flood Hazards (3064-AE03)

Federal Deposit Insurance Corporation (FDIC), the Farm Credit Administration, and the National Credit Union Administration (collectively, “the Agencies”) are proposing to amend their regulations regarding loans in areas having special flood hazards to implement provisions of the Biggert-Waters Flood Insurance Reform Act of 2012. Specifically, the proposal establishes requirements with respect to the escrow of flood insurance payments, the acceptance of private flood insurance coverage, and the force-placement of flood insurance. The proposal also clarifies the Agencies' flood insurance regulations with respect to other amendments made by the Act and makes technical corrections. Furthermore, the OCC and the FDIC are proposing to integrate their flood insurance regulations for national banks and Federal savings associations and for State non-member banks and State savings associations, respectively.

Liquidity Coverage Ratio: Liquidity Risk Measurement, Standards, and Monitoring (3064-AE04)

The Office of the Comptroller of the Currency, the Board of Governors of the Federal Reserve System, and the Federal Deposit Insurance Corporation requested comment on a proposed rule that would implement a quantitative liquidity requirement consistent with the liquidity coverage ratio standard established by the Basel Committee on Banking Supervision. The requirement is designed to promote the short-term resilience of the liquidity risk profile of internationally active banking organizations, thereby improving the banking sector's ability to absorb shocks arising from financial and economic stress, as well as improvements in the measurement and management of liquidity risk. The proposed rule would apply to all internationally active banking organizations, generally, bank holding companies, certain savings and loan holding companies, and depository institutions with more than $250 billion in total assets or more than $10 billion in on-balance sheet foreign exposure, and to their consolidated subsidiaries that are depository institutions with $10 billion or more in total consolidated assets. The proposed rule would also apply to companies designated for supervision by the Board by the Financial Stability Oversight Council under section 113 of the Dodd-Frank Wall Street Reform and Consumer Protection Act that do not have significant insurance operations and to their consolidated subsidiaries that are depository institutions with $10 billion or more in total consolidated assets.

Restrictions on Sales of Assets of a Covered Financial Company by the Federal Deposit Insurance Corporation (3064-AE05)

The Federal Deposit Insurance Corporation proposed a rule to implement a section of the Dodd-Frank Wall Street Reform and Consumer Protection Act. Under the section, individuals or entities that have, or may have, contributed to the failure of a “covered financial company” cannot buy a covered financial company's assets from the FDIC. This proposed rule establishes a self-certification process that is a prerequisite to the purchase of assets of a covered financial company from the FDIC.

*Removal of Transferred OTS Regulations Regarding Disclosure and Reporting of CRA-Related Agreements and Amendments to 12 CFR Part 346 of FDIC's Rules and Regulations (3064-AE09)

In this notice of proposed rulemaking, the Federal Deposit Insurance Corporation is proposing to rescind and remove from the Code of Federal Regulations 12 CFR part 390, subpart H (Part 390, Subpart H), entitled “Disclosure and Reporting of CRA-Related Agreements.” This subpart was included in the regulations that were transferred to the FDIC from the Office of Thrift Supervision on July 21, 2011, in connection with the implementation of applicable provisions of title III of the Dodd-Frank Wall Street Reform and Consumer Protection Act. The requirements for State savings associations in part 390, subpart H are substantively similar to those in the FDIC's 12 CFR part 346, which is also entitled “Disclosure and Reporting of CRA-Related Agreements” and is applicable for all insured depository institutions (IDIs) for which the FDIC has been designated the appropriate Federal banking agency. The FDIC is proposing to modify the scope of part 346, section 346.1, to include State savings associations and their subsidiaries to conform to and reflect the scope of the FDIC's current supervisory responsibilities as the appropriate Federal banking agency. The FDIC is also proposing to add a new subsection (m) to section 346.11, which would define “State savings association” as having the same meaning as in section 3(b)(3) of the Federal Deposit Insurance Act, 12 U.S.C. 1813(b)(3). This amendment would conform to and reflect the scope of the FDIC's current supervisory responsibilities as the appropriate Federal banking agency. The current provision occupying subsection (m) will be moved to a newly created subsection (n) within section 346.11. Upon removal of 12 CFR part 390, subpart H, the Disclosure and Reporting of CRA-Related Agreements, regulations applicable for all IDIs for which the FDIC has been designated the appropriate Federal banking agency will be found at 12 CFR part 346.

*Treatment of Certain Collateralized Debt Obligations Backed Primarily by Trust Preferred Securities with Regard to Prohibitions and Restrictions on Certain Interests in, and Relationships With, Hedge Funds and Private Equity Funds (3064-AE11)

The Office of the Comptroller of the Currency, The Federal Reserve Board, the Federal Deposit Insurance Corporation, the U.S. Commodity Futures Trading Commission, and the Securities Exchange Commission (individually, an Agency, and collectively, the Agencies) are adopting an interim final rule that would permit banking entities to retain investments in certain pooled investment vehicles that invested their offering proceeds primarily in trust preferred or subordinated debt securities issued by community banking organizations of the type grandfathered under section 171 of the Dodd-Frank Wall Street Reform and Consumer Protection Act. The interim final rule is a companion rule to the final rules adopted by the Agencies to implement section 13 of the Bank Holding Company Act of 1956, which was added by section 619 of the Dodd-Frank Act.

Long Term Actions

Removal of Transferred OTS Regulations Regarding Prompt Corrective Action and Modifications to Existing Federal Deposit Insurance Regulations (3064-AE02)

The Federal Deposit Insurance Corporation (FDIC) will be proposing to rescind and remove from the Code of Federal Regulations 12 CFR part 390, subpart Y, entitled Prompt Corrective Action (PCA). This subpart was included in the regulations that were transferred to the FDIC from the Office of Thrift Supervision on July 21, 2011, in connection with the implementation of applicable provisions of title III of the Dodd-Frank Wall Street Reform and Consumer Protection Act. Upon removal of 12 CFR part 390, subpart Y, the PCA regulations applicable for all insured depository institutions for which the FDIC has been designated the appropriate Federal banking agency will be found at 12 CFR part 325, subpart B, entitled Prompt Corrective Action, 12 CFR 325.2, entitled Definitions, and 12 CFR part 308, subpart Q, entitled Issuance and Review of Orders Pursuant to the Prompt Corrective Action Provisions of the Federal Deposit Insurance Act Rules (FDIC PCA Rules). The proposed rule also amends the FDIC PCA rules to ensure applicability to all insured depository institutions for which the FDIC has been designated the appropriate Federal banking agency.

Completed Actions

Prohibitions and Restrictions on Proprietary Trading and Certain Interests in, and Relationships With, Hedge Funds and Private Equity Funds (3064-AD85)

The Office of the Comptroller of the Currency, the Board of Governors of the Federal Reserve System, the Federal Deposit Insurance Corporation and U.S. Securities and Exchange Commission are adopting a rule that would implement section 13 of the BHC Act, which was added by section 619 of the Dodd-Frank Wall Street Reform and Consumer Protection Act. Section 13 contains certain prohibitions and restrictions on the ability of a banking entity and nonbank financial company supervised by the Board to engage in proprietary trading and have certain interests in, or relationships with, a hedge fund or private equity fund.

Removal of Transferred OTS Regulations Regarding Recordkeeping and Confirmation Requirements for Securities Transactions Effected by State Savings Associations and Other Amendments (3064-AE06)

The Federal Deposit Insurance Corporation (FDIC) is adopting a final rule to rescind and remove a regulation entitled “Recordkeeping and Confirmation Requirements for Securities Transactions,” and to amend another regulation also entitled “Recordkeeping and Confirmation Requirements for Securities Transactions.” The rescinded regulation was one of several rules transferred to the FDIC following dissolution of the former Office of Thrift Supervision (‘OTS’) in connection with the implementation of applicable provisions of title III of the Dodd-Frank Wall Street Reform and Consumer Protection Act (‘Dodd-Frank Act’). The Dodd-Frank Act provided that the former OTS rules that were transferred to the FDIC would be enforceable by or against the FDIC until they were modified, terminated, set aside, or superseded in accordance with applicable law by the FDIC, by any court of competent jurisdiction, or by operation of law. The FDIC received no comments on the Proposed Rule and consequently is adopting the Final Rule as proposed in the Notice of Proposed Rule without change. As a result, the recordkeeping and confirmation requirements for securities transactions effected on behalf of customers by all FDIC-supervised institutions will be found at the existing regulation entitled “Recordkeeping and Confirmation Requirements for Securities Transactions”.

Federal Deposit Insurance Corporation.
Valerie J. Best,
Assistant Executive Secretary.

Federal Deposit Insurance Corporation—Completed Actions
Sequence No. | Title | Regulation Identifier No.
390 | 12 CFR 324 Regulatory Capital Rules: Regulatory Capital, Implementation of Basel III Capital Adequacy, Transition Provisions, PCA, Standardize Approach for Risk-Weighted Assets | 3064-AD95

FEDERAL DEPOSIT INSURANCE CORPORATION (FDIC)

Completed Actions

390. Regulatory Capital Rules: Regulatory Capital, Implementation of BASEL III Capital Adequacy, Transition Provisions, PCA, Standardize Approach for Risk-Weighted Assets

Legal Authority: 12 U.S.C. 378; 12 U.S.C. 1813; 12 U.S.C. 1815; 12 U.S.C. 1817 to 1820

Abstract: The Federal Deposit Insurance Corporation (“FDIC”) is adopting an interim final rule that revises its risk-based and leverage capital requirements for FDIC-supervised institutions. This interim final rule is substantially identical to a joint final rule issued by the Office of the Comptroller of the Currency (“OCC”) and the Board of Governors of the Federal Reserve System (“Federal Reserve”) (together, with the FDIC, “the Agencies”). The interim final rule consolidates three separate notices of proposed rulemaking that the agencies jointly published in the Federal Register on August 30, 2012, with selected changes. The interim final rule implements a revised definition of regulatory capital, a new common equity tier 1 minimum capital requirement, higher minimum tier 1 capital requirement, and, for FDIC-supervised institutions subject to the advanced approaches risk-based capital rules, a supplementary leverage ratio that incorporates a broader set of exposures in the denominator. The interim final rule incorporates these new requirements into the FDIC's prompt corrective action framework. In addition, the interim final rule establishes limits on FDIC-supervised institutions' capital distributions and certain discretionary bonus payments if the FDIC-supervised institution does not hold a specified amount of common equity tier 1 capital in addition to the amount necessary to meet its minimum risk-based capital requirements. The interim final rule amends the methodologies for determining risk-weighted assets for all FDIC-supervised institutions. The interim final rule also adopts changes to the FDIC's regulatory capital requirements that meet the requirements of section 171 and section 939A of the Dodd-Frank Wall Street Reform and Consumer Protection Act. The interim final rule also codifies the FDIC's regulatory capital rules, which have previously resided in various appendices to their respective regulations, into a harmonized integrated regulatory framework. In addition, the FDIC is amending the market risk capital rule (market risk rule) to apply to state savings associations. The FDIC is issuing these revisions to its capital regulations as an interim final rule. The FDIC invites comments on the interaction of this rule with other proposed leverage ratio requirements applicable to large, systemically important banking organizations. This interim final rule otherwise contains regulatory text that is identical to the common rule text adopted as final rule by the Federal Reserve and the OCC. This interim final rule enables the FDIC to proceed on a unified, expedited basis with the other Federal banking agencies pending consideration of other issues. Specifically, the FDIC intends to evaluate this interim final rule in the context of the proposed well-capitalized and buffer levels of the supplementary leverage ratio applicable to large, systemically important banking organizations, as described in a separate Notice of Proposed Rulemaking, titled, Regulatory Capital Rules: Regulatory Capital, Enhanced Supplementary Leverage Ratio Standards for Certain Bank Holding Companies and the Insured Depository Institutions They Control. The FDIC is seeking commenters' views on the interaction of this interim final rule with the proposed rule regarding the supplementary leverage ratio for large, systemically important banking organizations.

Timetable:

Action | Date | FR Cite
NPRM | 08/30/12 | 77 FR 169
NPRM Comment Period End | 10/22/12 |
Interim Final Rule | 09/10/13 | 78 FR 55339
Interim Final Rule Comment Period End | 11/12/13 |
Final Rule | 04/14/14 | 79 FR 20754
Final Rule Effective | 04/14/14 |

Regulatory Flexibility Analysis Required: Yes.

Agency Contact: Bobby R. Bean, Associate Director, Federal Deposit Insurance Corporation, 550 17th Street NW., Washington, DC 20429, Phone: 202 898-3575, Email: bbean@fdic.gov.

Ryan Billingsley, Chief, Capital Policy Section, Federal Deposit Insurance Corporation, 550 17th Street NW., Washington, DC 20429, Phone: 202 898-3797, Email: rbillingsley@fdic.gov.

Karl Reitz, Chief, Capital Markets Strategies Section, Federal Deposit Insurance Corporation, 550 17th Street NW., Washington, DC 20429, Phone: 202 898-6775, Email: kreitz@fdic.gov.

Mark Handzlik, Counsel, Federal Deposit Insurance Corporation, 550 17th Street NW., Washington, DC 20429, Phone: 202 898-3900, Email: mhandzlik@fdic.gov.

Michael Phillips, Counsel, Federal Deposit Insurance Corporation, 550 17th Street NW., Washington, DC 20429, Phone: 202 898-3581, Email: mphillips@fdic.gov.

RIN: 3064-AD95

[FR Doc. 2014-13139 Filed 6-12-14; 8:45 am]

BILLING CODE 6714-01-P